DEPARTMENT OF THE INTERIOR

National Park Service

[NPS-WASO-NAGPRA-NPS0030738; PPWOCRADN0-PCU00RP14.R50000]

Notice of Inventory Completion: American Museum of Natural History, New York, NY

AGENCY: National Park Service, Interior.

ACTION: Notice.

SUMMARY: The American Museum of Natural History has completed an inventory of human remains and associated funerary objects, in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to the American Museum of Natural History. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to the American Museum of Natural History at the address in this notice by October 8, 2020.

ADDRESSES: Nell Murphy, American Museum of Natural History, Central Park West at 79th Street, New York, NY 10024, telephone (212) 769-5837, email nmurphy@amnh.org.

SUPPLEMENTARY INFORMATION: Notice is here given in accordance with the Native American Graves Protection and Repatriation Act (NAGPRA), 25 U.S.C. 3003, of the completion of an inventory of human remains and associated funerary objects under the control of the American Museum of Natural History, New York, NY. The human remains and associated funerary objects were removed from Fox Farm, Mays Lick vicinity, in Mason County, KY.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the American Museum of Natural History professional staff in consultation with representatives of the Cherokee Nation; Eastern Band of Cherokee Indians; Shawnee Tribe; The Chickasaw Nation; The Muscogee (Creek) Nation; and the United Keetoowah Band of Cherokee Indians in Oklahoma (hereafter referred to as “The Consulted Tribes”).

History and Description of the Remains

In 1895, human remains representing, at minimum, 187 individuals were removed from Fox Farm, near Mays Lick, in Mason County, KY. Harlan Ingersoll Smith, an archeologist at the American Museum of Natural History, collected these human remains as part of an expedition. These human remains and their associated funerary objects were accessioned into the Museum's collection that same year. The human remains include 32 adult males; seven adults who may be male; 33 adult females; seven adults who may be female; 32 adults of indeterminate sex; three individuals whose age and sex are indeterminate; and 73 subadults. No known individuals were identified. The 188 associated funerary objects are 14 shell pendants (more than 90 pieces); one lot of pearl shell beads (30 pieces); seven lots of Marginella apicina shell beads (more than 168 pieces); three lots of cylindrical Marginella shell beads (more than 62 pieces); two lots of Olive shell beads (11 pieces); one lot of coal or shale spherical shell beads (14 pieces); 15 lots of cylindrical shell beads (more than 350 pieces); two spherical shell beads; 20 lots of shell beads (more than 500 pieces); one conch shell bead; six lots of Unio shells (11 pieces); three lots of olive shells (15); one lot of Busycon shells (three); one pearl shell; two conical sea shells; one lot of shell objects (four pieces); one worked shell; one shell; one large shell ornament (in more than 50 pieces); nine bone awls (one of which was made from a wild turkey tibia); two awl shaped shells; eight stone disks; five perforated shell disks; three stone pipe blanks; three stone pipes (one of which is incised with a figure of a man); 10 bone beads or tubes (one of which is incised); three coal or shale pieces; one lot of small ceramic dishes (three pieces); one antler projectile point; 20 stone projectile points (two of which are chert, one of which is flint, and three of which are serrated); one chert piece; one rubbed stone; one stone drill; three stone celts; one bone fish hook; nine pottery sherds (one of which is in the shape of a bird head); three hammerstone pebbles; one bone button; one cut animal jaw; one lot of fox squirrel jaws (more than 50 pieces); one lot of bear teeth cut on edge (three); one pack or wood rat skull; one diseased animal bone; three deer antlers; one lot of perforated teeth (28 pieces); two pieces of bone; one piece of burned bone worked to a point; one cover stone; one lot of charred corn; one lot of charred corn cobs; one lot of charred beans and corn; one lot of charred beans, walnuts, and corn; one lot of charred hickory nut shells; and one lot of charred walnuts.

Determinations Made by the American Museum of Natural History

Officials of the American Museum of Natural History have determined that:

• Pursuant to 25 U.S.C. 3001(9), the human remains described in this notice represent the physical remains of 187 individuals of Native American ancestry.

• Pursuant to 25 U.S.C. 3001(3)(A), the 188 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• Treaties, Acts of Congress, or Executive Orders, indicate that the land from which the Native American human remains and associated funerary objects were removed is the aboriginal land of the Cherokee Nation; Eastern Band of Cherokee Indians; and the United Keetoowah Band of Cherokee Indians in Oklahoma.

• Pursuant to 43 CFR 10.11(c)(1), the disposition of the human remains and associated funerary objects may be to the Cherokee Nation; Eastern Band of Cherokee Indians; and the United Keetoowah Band of Cherokee Indians in Oklahoma.

Additional Requestors and Disposition

Representatives of any Indian Tribe or Native Hawaiian organization not identified in this notice that wish to request transfer of control of these human remains and associated funerary objects should submit a written request with information in support of the request to Nell Murphy, American Museum of Natural History, Central Park West at 79th Street, New York, NY 10024, telephone (212) 769-5837, email nmurphy@amnh.org, by October 8, 2020. After that date, if no additional requestors have come forward, transfer of control of the human remains and associated funerary objects to the Cherokee Nation; Eastern Band of Cherokee Indians; and the United Keetoowah Band of Cherokee Indians in Oklahoma may proceed.

The American Museum of Natural History is responsible for notifying The Consulted Tribes that this notice has been published.

Dated: August 4, 2020.
Melanie O'Brien,
Manager, National NAGPRA Program.

[FR Doc. 2020-19701 Filed 9-4-20; 8:45 am]

BILLING CODE 4312-52-P